SURFACE TRANSPORTATION BOARD

[Docket No. EP 728]

Policy Statement on Implementing Intercity Passenger Train On-Time Performance and Preference Provisions of 49 U.S.C. 24308(c) and (f)

AGENCY: Surface Transportation Board.

ACTION: Withdrawal of proposed statement of board policy.

SUMMARY: The Surface Transportation Board (Board) is withdrawing the proposed Policy Statement (80 FR 80878) previously issued in this docket regarding complaint proceedings under 49 U.S.C. 24308(f) and related issues under 49 U.S.C. 24308(c).

FOR FURTHER INFORMATION CONTACT: Scott M. Zimmerman, (202) 245-0386. [Assistance for the hearing impaired is available through the Federal Information Relay Service (FIRS) at 1-800-877-8339.]

SUPPLEMENTARY INFORMATION: Additional information is contained in the Board's decision. Board decisions and notices are available on our Web site at “WWW.STB.DOT.GOV.”

Decided: July 28, 2016.
By the Board, Chairman Elliott, Vice Chairman Miller, and Commissioner Begeman.
Tia Delano,
Clearance Clerk.

[FR Doc. 2016-18241 Filed 8-1-16; 8:45 am]

BILLING CODE 4915-01-P